DEPARTMENT OF THE INTERIOR

National Park Service

National Preservation Technology and Training Board: Meeting

AGENCY: National Park Service, Interior.

ACTION: Notice.

Notice is hereby given in accordance with the Federal Advisory Committee Act, 5 U.S.C. Appendix (1988), that the National Preservation Technology and Training Board will meet on November 9 and 10, 2000 in Natchitoches, Louisiana.

The Board was established by Congress to provide leadership, policy advice, and professional oversight to the National Center for Preservation Technology and Training, as required under the National Historic Preservation Act of 1966, as amended (16 U.S.C. 470).

The Board will meet in the Nakatosh Room (Room 203), at the College of Business Building (Russell Hall), located on the campus of Northwestern State University of Louisiana, Sibley Drive, Natchitoches, Louisiana. Thursday, November 9 the meeting will start at 8:30 a.m. and end at about noon. Matters to be discussed will include officer, committee, university, National Park Service and center reports and the introduction of the New Executive Director.

Friday, November 10, 2000 the meeting will start at 8:30 a.m. and end at noon. Matters to be discussed will included a review of past accomplishments of the Center and a look toward the future role of the NCPTT board with respect to the center and their partners in the preservation community. The meeting will be open to the public. However, facilities and space for accommodating members of the public are limited and persons will be accommodated on a first-come, first-served basis. Any member of the public may file a written statement concerning the matters to be discussed with Dr. Elizabeth A. Lyon, Chair, National Preservation Technology and Training Board, P.O. Box 1269, Flowery Branch, Georgia 30542.

Persons wishing more information concerning this meeting, or who wish to submit written statements, may do so by contacting Mr. E. Blaine Cliver, Chief, HABS/HAER, National Park Service, 1849 C Street NW, Washington, DC 20240, telephone: (202) 343-9573. Draft summary minutes of the meeting will be available for public inspection about eight weeks after the meeting at the office of the Preservation Assistance Division, Suite 200, 800 North Capitol Street, Washington, DC.

Dated: 17 October 2000.
E. Blaine Cliver,
Chief, HABS/HAER, Designated Federal Official, National Park Service.

[FR Doc. 00-27204 Filed 10-23-00; 8:45 am]

BILLING CODE 4310-70-P